SMALL BUSINESS ADMINISTRATION

Region VII Regulatory Fairness Board; Federal Regulatory Enforcement Fairness Hearing

AGENCY: U.S. Small Business Administration (SBA).

ACTION: Notice of open meeting of the Regional (Region VII) Small Business Regulatory Fairness Board.

SUMMARY: The (SBA) Office of the National Ombudsman is issuing this notice to announce the location, date and time of the Regional Small Business Regulatory Fairness hearing. This meeting is open to the public.

DATES: The hearing will be held on Friday, June 21, 2013 from 9:00 a.m. to 11:30 a.m. (CST).

ADDRESSES: The meeting will be at Modern Woodmen Park—Business Center, 209 S. Gaines Street, Davenport, IA 52802-1403.

SUPPLEMENTARY INFORMATION: Pursuant to the Small Business Regulatory Enforcement Fairness Act (Pub. L. 104-121), Sec. 222, SBA announces the meeting for Business Organizations, Trade Associations, Chambers of Commerce and related organizations serving small business concerns to report experiences regarding unfair or excessive Federal regulatory enforcement issues affecting their members.

FOR FURTHER INFORMATION CONTACT: The meeting is open to the public; however, advance notice of attendance is requested. Anyone wishing to attend and/or make a presentation to the Region VII Regulatory Fairness Board must contact Jeanna Trenkamp by June 17, 2013 in writing, by fax or email in order to be placed on the agenda. Jeanna Trenkamp, Program & Events Coordinator, Quad Cities Chamber of Commerce, 130 West Second Street, Davenport, IA 52801, phone (563) 823-2692 and fax (309) 757-5435, email: jtrenkamp@quadcitieschamber.com. Additionally, if you need accommodations because of a disability or require additional information, please contact José Méndez as well.

For more information on the Office of the National Ombudsman, see our Web site at www.sba.gov/ombudsman.

Dated: June 6, 2013.
Dan Jones,
SBA Committee Management Officer.

[FR Doc. 2013-14081 Filed 6-13-13; 8:45 am]

BILLING CODE 8025-01-P